DEPARTMENT OF LABOR

Employment and Training Administration

[TA-W-82,306]

Riverside Publishing Company, Technical Production Services Group, A Subsidiary of Houghton Mifflin Harcourt Publishing Company, Including On-Site Leased Workers From Zero Chaos, Apex Systems, and Pro Unlimited, Inc., Rolling Meadows, Illinois; Amended Certification Regarding Eligibility To Apply for Worker Adjustment Assistance

In accordance with Section 223 of the Trade Act of 1974, as amended (“Act”), 19 U.S.C. § 2273, the Department of Labor issued a Certification of Eligibility to Apply for Worker Adjustment Assistance on January 16, 2013, applicable to workers of Riverside Publishing Company, Technical Production Services Group, a subsidiary of Houghton Mifflin Harcourt Publishing Company, including on-site leased workers from Zero Chaos and Apex Systems, Rolling Meadows, Illinois. The Department's notice of determination was published in the Federal Register on February 6, 2013 (78 FR 8593).

At the request of the state workforce office, the Department reviewed the certification for workers of the subject firm. The workers were engaged in the production of educational tests.

The company reports that workers leased from PRO Unlimited, Inc. were employed on-site at the Rolling Meadows, Illinois location of the Riverside Publishing Company, Technical Production Services Group. The Department has determined that these workers were sufficiently under the control of the subject firm to be considered leased workers.

Based on these findings, the Department is amending this certification to include workers leased from PRO Unlimited, Inc. working on-site at the Rolling Meadows, Illinois location of the Riverside Publishing Company, Technical Production Services Group.

The amended notice applicable to TA-W-82,306 is hereby issued as follows:

All workers of PRO Unlimited, Inc., reporting to Riverside Publishing Company, Technical Production Services Group, a subsidiary of Houghton Mifflin Harcourt Publishing Company, Rolling Meadows, Illinois, who became totally or partially separated from employment on or after January 2, 2012, through January 16, 2015, and all workers in the group threatened with total or partial separation from employment on the date of certification through two years from the date of certification, are eligible to apply for adjustment assistance under Chapter 2 of Title II of the Trade Act of 1974, as amended.

Signed in Washington, DC, this 14th day of May, 2015.
Michael W. Jaffe,
Certifying Officer, Office of Trade Adjustment Assistance.

[FR Doc. 2015-15061 Filed 6-18-15; 8:45 am]

BILLING CODE 4510-FN-P